DEPARTMENT OF VETERANS AFFAIRS

National Research Advisory Council; Notice of Meeting

The Department of Veterans Affairs (VA) gives notice under the Federal Advisory Committee Act, 5 U.S.C., App. 2, that the National Research Advisory Council will hold a meeting on Wednesday, June 7, 2017, in Conference Room 530 at 810 Vermont Avenue NW., Washington, DC. The meeting will convene at 9:00 a.m. and end at 3:00 p.m. This meeting is open to the public.

The agenda will include a brief by the Advisory Committee Management Office (ACMO), Air Force Health Study Update, Office of Research and Development (ORD) Strategy review, Big Data update, discussions on personnel and workload, and Service updates. No time will be allocated at this meeting for receiving oral presentations from the public. Members of the public wanting to attend may contact Melissa Cooper, Designated Federal Officer, ORD (10P9), Department of Veterans Affairs, 810 Vermont Avenue NW., Washington, DC 20420, at (202) 461-6044, or by email at Melissa.Cooper@va.gov no later than close of business on May 31, 2017.

Because the meeting is being held in a government building, a photo I.D. must be presented at the Guard's Desk as a part of the clearance process. Due to security protocols, and in order to prevent delays in clearance processing, you should allow an additional 30 minutes before the meeting begins. Any member of the public seeking additional information should contact Melissa Cooper at the phone number or email address noted above.

Dated: April 18, 2017.
LaTonya L. Small,
Advisory Committee Management Officer.

[FR Doc. 2017-08129 Filed 4-20-17; 8:45 am]

BILLING CODE 8320-01-P